DEPARTMENT OF HEALTH AND HUMAN SERVICES

Centers for Disease Control and Prevention

Advisory Committee on Breast Cancer in Young Women (ACBCYW)

In accordance with section 10(a)(2) of the Federal Advisory Committee Act (Pub. L. 92-463), the Centers for Disease Control and Prevention (CDC), announces the following meeting of the aforementioned committee:

Time And Date: 1:00 p.m.-5:00 p.m., EST, August 11, 2014.

Place: This meeting is accessible by teleconference and web access. Teleconference and web access login information is as follows:

Toll-Free Telephone: 1-877-917-7126, Participant passcode: 1594803. There is also a toll free number for anyone outside of the USA: TOLL NUMBER: 1-415-228-4972, Participant passcode: 1594803.

Net Conference And Web URL: https://www.mymeetings.com/nc/join/.

Conference number: PW7515819, Audience passcode: 1594803 and: https://www.mymeetings.com/nc/join.php?i=PW7515819&p=1594803&t=c.

Status: Open to the public, limited only by the net conference and audio phone lines available.

Purpose: The committee provides advice and guidance to the Secretary, HHS; the Assistant Secretary for Health; and the Director, CDC, regarding the formative research, development, implementation and evaluation of evidence-based activities designed to prevent breast cancer (particularly among those at heightened risk) and promote the early detection and support of young women who develop the disease. The advice provided by the Committee will assist in ensuring scientific quality, timeliness, utility, and dissemination of credible appropriate messages and resource materials.

Matters For Discussion: The agenda will include discussions on the current and emerging topics related to breast cancer in young women. These include current survivorship activities and public health campaign activities. Other areas of discussion may include risk communication and health education, as well as approaches to increase awareness of clinicians/practitioners regarding topics such as breast cancer risk, breast health, symptoms, diagnosis, and treatment of breast cancer in young women.

Agenda items are subject to change as priorities dictate.

Online Registration Required: All ACBCYW Meeting participants must register for the meeting online at least three business days in advance at http://www.cdc.gov/cancer/breast/what_cdc_is_doing/meetings.htm. Please complete all the required fields before submitting your registration and submit no later than August 6, 2014.

Contact Person For More Information: Temeika L. Fairley, Ph.D., Designated Federal Officer, National Center for Chronic Disease Prevention and Health Promotion, CDC, 4770 Buford Highway, NE., Mailstop K52, Atlanta, Georgia 30341, Telephone (770) 488-4518, Fax (770) 488-4760 Email: acbcyw@cdc.gov.

The Director, Management Analysis and Services Office, has been delegated the authority to sign Federal Register notices pertaining to announcements of meetings and other committee management activities, for both the Centers for Disease Control and Prevention, and Agency for Toxic Substances and Disease Registry.

Elaine Baker,
Director, Management Analysis and Services Office, Centers for Disease Control and Prevention.

[FR Doc. 2014-16494 Filed 7-14-14; 8:45 am]

BILLING CODE 4163-18-P